DEPARTMENT OF JUSTICE

[Docket No. CRT147]

Notice of Rescission of Report on Lawful Uses of Race or Sex in Federal Contracting Programs

AGENCY: Civil Rights Division, Department of Justice.

ACTION: Notice.

SUMMARY: This notice announces that the prior guidance in Notice of Report on Lawful Uses of Race or Sex in Federal Contracting Programs, published in the Federal Register on January 31, 2022, is no longer considered an accurate reflection of the current laws, executive orders, and federal court jurisprudence concerning the constitutionality of using race or sex in federal government programs and should not be cited in the defense of them.

DATES: This recission is effective April 23, 2025.

FOR FURTHER INFORMATION CONTACT: Andrew Braniff, Senior Counsel to the Assistant Attorney General, Civil Rights Division, Department of Justice, (202) 514-3831, EMP.Lit@crt.usdoj.gov. If you use a telecommunications device for the deaf (TDD) or a text telephone (TTY), call the Federal Relay Service (FRS), toll free, at 1-800-877-8339.

SUPPLEMENTARY INFORMATION: The Department is rescinding the Notice of Report on Lawful Uses of Race or Sex in Federal Contracting Programs 87 FR 4955 (Jan. 31, 2022) (“2022 Guidance”), because, after it issued, federal courts have developed a substantial body of contradictory precedent interpreting the use of race and sex in affirmative action programs, including in federally funded contracting programs.

Additionally, the 2022 Guidance is inconsistent with Executive Order 14151 of January 20, 2025, Ending Radical and Wasteful Government DEI Programs and Preferencing, and Executive Order 14173 of January 21, 2025, Ending Illegal Discrimination and Restoring Merit-Based Opportunity. See 90 FR 8339; 90 FR 8633. In those Executive Orders, President Donald J. Trump directed the immediate termination of race- and sex-based preference programs operating under the banner of “diversity, equity, and inclusion” (“DEI”) throughout the federal government. As the President explained, “dangerous, demeaning, and immoral race- and sex-based preferences under the guise of so-called `diversity, equity, and inclusion' ” violate the civil rights laws of this country and will no longer be tolerated—least of all within our own government. 90 FR 8633 (sec. 1). Section 3 of Executive Order 14173 directs “the employment, procurement, and contracting practices of Federal contractors and subcontractors shall not consider race, color, sex, sexual preference, religion, or national origin in ways that violate the Nation's civil rights laws. Id. (sec. 3) (citing Executive Order 13279 of December 12, 2002, Equal Protection of the Laws for Faith-Based and Community Organizations, 67 FR 77141).

The 2022 Guidance that was published in the Federal Register at 87 FR 4955 is no longer available on the Department of Justice's website nor should its contents be cited as evidence supporting race- or sex-based programs.

Dated: April 10, 2025.
Harmeet K. Dhillon,
Assistant Attorney General, Civil Rights Division.

[FR Doc. 2025-06445 Filed 4-22-25; 8:45 am]

BILLING CODE 4410-13-P